DEPARTMENT OF COMMERCE

National Oceanic and Atmospheric Administration

[Docket No. 021114275-2275-01]

Joint Hurricane Testbed (JHT) Opportunities for Transfer of Research and Technology Into Tropical Cyclone Analysis and Forecast Operations

AGENCY: Office of Oceanic and Atmospheric Research, National Oceanic and Atmospheric Administration, Department of Commerce.

ACTION: Notice.

SUMMARY: The Office of Oceanic and Atmospheric Research (OAR), National Oceanic and Atmospheric Administration (NOAA), is soliciting preapplications (Letters of Intent) under the United States Weather Research Program (USWRP), established under section 108 of the NOAA Authorization Act of 1992 (15 U.S.C. 313 note), as governed by the USWRP Joint Hurricane Testbed (JHT). The JHT is operated by NOAA in cooperation with the National Aeronautics and Space Administration (NASA) and the United States Navy. This notice also provides guidelines for the submission of full proposals. This notice describes opportunities and application procedures for the transfer of relevant research and technology advances into tropical cyclone analysis and forecast operations. Eligible applicants include institutions of higher education, other non-profit, and commercial organizations, state, local and Indian tribal governments. This notice calls for researchers to submit proposals to test and evaluate, and modify if necessary, in a quasi-operational environment, their own scientific and technological research applications. Projects satisfying metrics for success and operational constraints may be selected for operational implementation after the completion of the JHT-funded work. The period of the award is from one up to two years.

DATES: Preapplications submitted by Principal Investigators (PIs) must be received at the Tropical Prediction Center in Miami, Florida (address provided below) no later than 5 p.m. Eastern Standard Time (EST) on February 3, 2003. Response letters will be sent from NOAA no later than 5 p.m. EST on March 4, 2003.

PIs will be informed of the submittal deadline for full proposals in the response letter.

ADDRESSES: Preapplication and full proposals must be submitted, in accordance with the requirements described in Section VIII of this notice, to: Dr. Jiann-Gwo Jiing, Director, Joint Hurricane Testbed, Tropical Prediction Center, 11691 SW. 17th Street, Miami, FL 33165. Full proposals must be submitted as printed hard copies to the above address. Preapplications may be sent as printed hard copies to the above address, or they may be submitted electronically by sending in portable document format (PDF) via e-mail to: Jiann-Gwo.Jiing@noaa.gov.

The standard NOAA Grants and Cooperative Agreement Application Package, which contains required forms to be submitted with a full proposal (but not with a preapplication), and other important supplemental information to this notice (an overview of the JHT and operational Tropical Prediction Center IT environments), can be obtained by contacting Karen King, DOC/NOAA, Office of Weather & Air Quality Research, Routing Code R/WA, 1315 East-West Highway, Room 11216, Silver Spring, MD 20910, phone (301) 713-0460 ext. 202, e-mail Karen.King@noaa.gov.

FOR FURTHER INFORMATION CONTACT: Karen King, DOC/NOAA, Office of Weather & Air Quality Research, Routing Code R/WA, 1315 East-West Highway, Room 11216, Silver Spring, MD 20910, phone (301) 713-0460 ext. 202, e-mail Karen.King@noaa.gov.

SUPPLEMENTARY INFORMATION:

I. Program Authority

Authority: 15 U.S.C. 2904(c)(3).

II. Catalog of Federal Domestic Assistance (CFDA)

11.431—Climate and Atmospheric Research

III. Program Description

The USWRP, via the JHT, seeks to accelerate the rate at which promising research and technology benefit operational tropical cyclone analysis and forecasting. The goal of this notice is to identify such promising research and technology, and to support the testing and evaluation, in a quasi-operational environment, of techniques and applications developed and provided by PIs to responding to this notice. Federal assistance is provided to PIs allow them to tailor their techniques for the operational environment. Depending upon the nature of the proposed research and technology, PIs are asked to provide documentation and instructions to facilitate the testing and evaluation of their techniques by operational center staff. Projects satisfying metrics for success and operational constraints may be selected for operational implementation after the completion of the JHT-funded work.

JHT Projects: Whereas the operational forecast center where JHT projects will be tested and evaluated could be the NOAA Tropical Prediction Center/National Hurricane Center (TPC/NHC), the Joint Typhoon Warning Center (JTWC) operated by the United States Navy and Air Force, or the NOAA Central Pacific Hurricane Center (CPHC), TPC/NHC will be specified in this document, both for brevity and to acknowledge the current focus of the JHT on that operational center. Use of other facilities is possible depending on requirements, workload, and opportunity.

The JHT mission is to facilitate the rapid and smooth transfer of new technology, research results, and observational advances of the USWRP, its sponsoring agencies, the academic community, and other groups into improved tropical cyclone analysis and prediction at operational centers. This mission will be accomplished by funded PIs and their support staffs, in collaboration with operational center forecasters and other staff, and facilitated by JHT staff, via the following JHT project activities (as relevant to each project):

(1) Utilizing a quasi-operational environment to facilitate the testing and evaluation by operational center forecasters and support staff of research products and techniques provided by the PIs, subject to metrics that mandate good scientific performance while meeting forecaster ease-of-use needs and time constraints.

(2) Preparation for funded researchers of scientific and technical documentation that is sufficient to facilitate the testing and evaluation of the new product or technique.

(3) Utilizing advanced statistical and numerical model output and stimulating model improvement in tropical cyclone analysis and forecast applications.

(4) Completing tests of codes provided by the PIs that preferably follow established and open programming standards for ease of portability.

(5) Facilitating the transfer of tested and evaluated forecast guidance products, research codes, and observations into the computer, communication, and display systems of the operational forecast center, while incorporating adjustments necessary to generate forecast guidance products that are forecaster-friendly and time-efficient.

Upon acceptance of a proposal, JHT staff will provide project administration and facilitation. The JHT Director will coordinate with each project PI, prior to initiation, a time line and well-defined operational metric(s) for success in terms of scientific performance, ease of use, and time constraints. The time line and progress toward success will be monitored and updated during the project. Additionally, the TPC/NHC Director will designate for the project the forecaster and/or technical point(s) of contact from the TPC/NHC staff.

The JHT will provide to the funded projects access to the JHT IT infrastructure (computer hardware, software, and data) to facilitate the testing and evaluation in an environment that closely matches that of the operational center. An overview of the JHT and TPC/NHC operational IT environments can be obtained along with the standard NOAA Grants and Cooperative Agreement Application Package, as described previously in the Addresses section following the Summary of this notice. Copies of operational codes may be made available to prospective applicants as needed, but without guaranteed support.

The PI and his/her research staff, working with JHT personnel, will modify (if necessary) their proposed system so that it may be run during the hurricane season, utilized by the operational center forecasters, and tested and evaluated quantitatively and qualitatively in a quasi-operational environment. In preparation for testing and evaluation, the funded researcher must provide sufficient documentation and instructions to the JHT staff and TPC/NHC forecasters and technical point(s) of contact to enable them to conduct the tests and evaluations. Following any necessary modifications to make the researcher's proposed system functional in the JHT environment, initial testing and evaluation will be conducted, but not necessarily in real-time or during hurricane season. When the results of these initial tests and evaluations show sufficient progress, the TPC/NHC and JHT Directors, with input from the TPC/NHC point(s) of contact, may make the decision for the proposed system to be configured for quasi-operational, real-time testing and evaluation during hurricane season in the JHT environment. Researchers should anticipate that their funded work period will include their involvement during quasi-operational testing where tuning and adjustment may be required. Experience gained from current JHT projects indicates that the process of testing and evaluation often uncovers opportunities to make modest improvements to a project during its lifetime, and a project advances most rapidly when researchers, the JHT staff, and TPC/NHC forecasters and technical points of contact remain flexible an collaborate closely.

A successful JHT project will result in one or more of the following: (1) A forecast guidance product or technique leading to improved tropical cyclone analyses and/or forecasts; (2) operational availability of data from a new observational system that has provided documented evidence of positive diagnostic or forecast impact; and/or (3) a converted research code that, running with an operational data stream on forecast center computers and display systems, is effectively utilized by the operational forecasters to improve products and services. Final testing, validation, and acceptance of the new product will be the responsibility of, and at the discretion of, the operational forecast center. When the operationally capable system is demonstrated to provide improved forecast guidance according to the agreed-upon metric(s) for success and meets operational constraints, the operational forecast center Director may make the decision for full operational implementation. The JHT-funded researcher and the JHT staff will then provide materials for the operational center to develop its own documentation and training for the new technique or product. Long-term maintenance and support of the new technique or product will then become the responsibility of the operational forecast center. Codes resulting from JHT work accepted for operational implementation will be the property of the U.S. government and will be in the public domain, which will readily facilitate cooperative work between research, educational, governmental, and other organizations.

Program Priorities: The USWRP has established the following goals for its Hurricane Landfall program:

A. Reduce landfall track and intensity errors by 20 percent.

B. Extend track forecasts to 120 hours with an average error less than 250 nautical miles.

C. Increase warning lead time to 24 hours and beyond with 95% confidence.

D. Make skillful forecasts (compared to persistence) of gale- and hurricane-force wind radii out to 48 hours with 95% confidence.

E. Extend quantitative precipitation forecasts to three days and improve skill of day-three forecasts to improve inland flooding forecasts.

The Tropical Prediction Center/National Hurricane Center (TPC/NHC) of the National Centers for Environmental Prediction (NCEP) has identified its operational forecast improvement needs, which are closely related to the USWRP goals. The highest TPC/NHC hurricane forecaster priorities involve the following six areas of need:

(TPC A-1) Improve guidance for tropical cyclone intensity change, with highest priority on the onset, duration, and magnitude of rapid intensification events.

(TPC A-2) Develop statistically-based real-time “guidance on guidance” for track, intensity and precipitation (e.g., multi-model consensus approaches) and provide guidance to forecasters in probabilistic and other formats.

(TPC A-3) Improve guidance for tropical cyclone precipitation amount and distribution.

(TPC A-4) Identify and then reduce the occurrence of guidance and official track outliers, focusing on both large speed errors (e.g., accelerating “recurvers” and stalling storms) and large direction errors (e.g., loops and tropical cyclone tracks such as those of Mitch (1998) and Keith (2000)).

(TPC A-5) Implement improved observational systems in the storm and its environment that provide data for forecaster analysis and model initialization.

(TPC A-6) Develop guidance for changes in tropical cyclone size and related parameters, including combined sea heights.

Additional TPC/NHC areas of need include, but are not limited to:

(TPC B-1) Improve operational analysis and forecast guidance for the surface wind field, including maximum sustained winds, during tropical cyclone landfall.

(TPC B-2) Develop probabilistic forecast guidance for tropical cyclone surface wind speed.

(TPC B-3) Develop guidance for tropical cyclone genesis that exhibits a high probability of detection and a low false alarm rate.

(TPC B-4) Improve numerical and statistical guidance on specific forecast problems, including the following: interactions between upper-level troughs and tropical cyclones, track forecasts near mountainous areas, and extratropical transition.

(TPC B-5) Develop analysis techniques, which improve upon the Dvorak technique, for surface winds in tropical cyclones passing over and north of the sea-surface temperature gradient in the eastern North Pacific Ocean.

(TPC B-6) Develop generalized strike probability programs applicable to all tropical cyclone basins for which the TPC/NHC, CPHC, and JTWC are responsible.

(TPC B-7) Develop improved storm surge guidance models, including guidance on breaking waves and featuring high resolution input and output.

(TPC B-8) Improve the utility of microwave satellite and radar data in tropical cyclone analysis.

Much of the improvement in tropical cyclone forecasting is attributed to advances in numerical weather prediction (NWP). These advances are mainly the result of improvements in observations, data assimilation techniques, and improved model physics in global forecast systems and high resolution regional models, in addition to the development of ensemble-based model guidance. Individual proposals directed toward the NWP issues will be expected to be closely coordinated with the Environmental Modeling Center (EMC) of NCEP. Work should be concluded within a two year period.

High priority areas of work associated with NWP advancements for tropical cyclone forecasting are:

(EMC 1) General model improvements to advance track and intensity forecasts.

(EMC 2) Improved boundary layer representation for coupled air/sea/land models by, for example, exploiting results from field projects such as C-BLAST (for improved parameterization of surface fluxes in high wind regimes, and effects of sea spray on transfer coefficients).

(EMC 3) Improved targeting strategies for hurricane surveillance missions to improve model track forecasts.

(EMC 4) Model validation techniques suitable for 3D high resolution verification for storms in the process of extratropical transition or storms at landfall.

(EMC 5) Diagnostic techniques to further increase the utility of global models (e.g., NCEP, UKMO, NOGAPS) in forecasting tropical cyclone genesis.

IV. Funding Availability

The estimate for total JHT funding that will be available in FY 2003 is $1,500,000. Funding of any JHT proposals is contingent upon availability of these funds. NOAA issues this notice subject to appropriations made available under the current continuing resolution (CR), H.J. Res. 111, “Making continuing appropriations for the fiscal year 2003, and for other purposes,” Public Law 107-229, as amended by H.J. Res. 112, Public Law 107-235, H.J. Res. 122, Public Law 107-240, H.J. Res. 123, Public Law 107-224, and H.J. Res. 124, Public Law 107-294. NOAA anticipates making awards under this program provided that funding for the USWRP is continued beyond January 11, 2003, the expiration of the current continuing resolution. Issuance of awards, however, is subject to the future availability of fiscal year 2003 funds. In no event will NOAA or the Department of Commerce be responsible for proposal preparation costs if this program fails to receive funding or is canceled because of other agency priorities.

V. Funding Instrument

The funding instrument will be a Cooperative Agreement based on the envisioned substantial involvement of NOAA scientists in projects funded by this notice. NOAA collaborates on cooperative research activities and provides financial support to enhance the public benefits to be derived from these research activities. NOAA envisions that JHT project testing and evaluation will involve close collaboration, facilitated by the JHT staff, between JHT-funded researchers and operational center forecasters and point(s) of contact.

VI. Eligibility

Eligible applicants include institutions of higher education, other non-profit, and commercial organizations, state, local and Indian tribal governments. Funding for contractual arrangements for services and products for delivery to NOAA are not available under this notice.

VII. Award Period

The period of awards is from one up to two years. All funded PIs are required to submit written semiannual reports during the project to describe the progress made toward the goals and deliverables established in the original proposal and agreed-upon time line. A final report must also be submitted at the conclusion of the project. The due dates for these reports will be coordinated with the JHT Director upon project initiation. Two-year projects will be reviewed by the JHT Steering Committee, and/or other designated reviewers, and the JHT and TPC/NHC Directors near the end of the first year for suitability for continuation into the second year. PIs are required to submit a renewal proposal along with the second semiannual report for this review. The renewal proposal must provide updates to the project work plan, deliverables, time line. IT requirements, budget, documentation and training plans, etc. This review is also based upon the semiannual reports and upon feedback received from the TPC/NHC point(s) of contact. The criteria upon which the renewal review is based are: (1) The progress toward milestones in the original time line, (2) the potential for completing the testing and evaluation process and providing the stated deliverables by the end of the second year, and (3) appropriateness and reasonableness of the budget with respect to available JHT funds. Given a favorable review, each project may be funded for a second year.

A JHT project reaches its completion in one of two ways. A two-year project may end at any time, particularly after appropriately one year if the TPC/NHC and JHT Directors and the JHT Steering Committee (and/or other designated reviewers) decide, as described above, that insufficient progress has been made to justify continuation of the project into year two. A JHT project ends more conventionally with the submission of a final report at the conclusion of the original agreed-upon project duration, with the subsequent action being the decision by the TPC/NHC Director on whether or not operational implementation of the project deliverables will occur.

VIII. Submission Requirements

The guidelines for preparation of preapplications and full proposals provided below are mandatory (except where otherwise noted). Failure to adhere to these guidelines will result in preaplications and/or full proposals being returned without review. See the “Dates” and “Addresses” sections following the “Summary” earlier in this notice for submission deadlines and addresses.

A. Preapplications (PA)

(1) Prior to submitting a full proposal, PIs are strongly encouraged to submit a PA for each planned proposal. However, PIs who do not submit a PA will not be precluded from submitting a full proposal.

(2) The PA must be no more than two pages in length, using a 12-point font and one inch margins, and it must include the name(s) of the PI(s) and their home institution(s).

(3) The PA must contain a brief description of the intended project.

(4) The PA must include a brief budget which summarizes how resources will be allocated [e.g., salaries, computing and communications, equipment (provide justification), indirect charges, and travel]. Note that funding for secretarial support and IT improvements at the PI's home institution is not generally available.

(5) Each PA will be reviewed, following the criteria specified below in Section IX of this notice, by members of the JHT Steering Committee and/or other designated reviewers, who will make their recommendations to the JHT Director and TPC/NHC Director.

(6) PIs will not be encouraged to submit a full proposal for any PA deemed to be unresponsive to this notice. However, they will not be precluded from submitting a full proposal for any such PA.

B. Full Proposals

(1) The proposal must include a title page signed by the PI(s) and the appropriate representatives(s) of their home institution(s). Each PI and institutional representative should be identified by full name, title, organization, telephone number, mailing address, and e-mail address.

(2) A one page abstract must be included and must contain a brief summary of the work to be completed. The abstract must appear on a separate page, headed with the proposal title and the name(s) of the PI(s) and their home institution(s).

(3) All proposals must provide a Statement of Work that includes:

a. The proposed duration of the project, from one up to two years;

b. If known, suggested forecaster and/or technical point(s) of contact at TPC/NHC and, if necessary, other operational center(s);

c. A brief description of the project, with prior research results (including references) to demonstrate sufficient maturity and potential for a successful transition to operations at TPC/NHC and other operational forecast centers (e.g., CPHC, JTWC) and/or, if applicable, at a numerical weather prediction center;

d. A work plan for the project, including hardware and software needs, the testing and evaluation approach, metric(s) for success, project deliverables, a time line with key milestones, real-time operational data needed as input, and a plan to port necessary codes to the operational environment of TPC/NHC and/or NCO (an overview of the JHT and TPC/NHC operational IT environments can be obtained along with the standard NOAA Grants and Cooperative Agreement Application Package, as described previously in the ADDRESSES section following the SUMMARY of this notice);

e. A time line for delivering scientific and technical documentation and training materials over the course of the project that are sufficient to enable testing and evaluation of the proposed techniques. If the proposal is funded, researchers are expected to coordinate with the JHT Director to formalize this time line;

f. Schedule and needs for expected travel (PIs are strongly encouraged to plan and budget during each year of the project to describe their work at the annual Interdepartmental Hurricane Conference (IHC), sponsored by the Office of the Federal Coordinator for Meteorological Services and Supporting Research, and visits by PIs and/or their support staff to the TPC/NHC, and any other operational center(s) as necessary, may be beneficial for training JHT staff and the forecaster and technical point(s) of contact in preparation for project testing and evaluation); and

g. Estimates of JHT staff requirements in terms of on-site (or off-site) JHT Facilitator efforts, and estimated computational, communication, and/or display requirements at the researcher's home institution and/or at JHT via remote access and data transfer.

(4) Applicants must submit a budget using the Standard Form 424A (4-92), Budget Information—Non-Construction Programs. This form is included in the standard NOAA Grants and Cooperative Agreement Application Package (see ADDRESSES section that follows the SUMMARY earlier in this notice). The budget must include PI and scientific and technical support staff salaries, JHT facility requirements, computing and communications funding, equipment funding (provide justification), indirect charges, and travel. Note that funding for secretarial support and IT improvements at the PI's home institution is not generally available.

(5) Applicants must also use the following forms when applying for financial assistance: Standard Forms 424, Application for Federal Assistance, 424B, Assurances—Non-Construction Programs, and SF-LLL (Rev. 7-97); Department of Commerce forms CD-346, Applicant for Funding Assistance, and CD-511, Certifications Regarding Debarment, Suspension and Other Responsibility matters: Drug-Free Workplace Requirements and Lobbying. These forms are also included in the standard NOAA Grants and Cooperative Agreement Application Package (see ADDRESSES section that follows the SUMMARY earlier in this notice).

(6) An abbreviated Curriculum Vita for the PI must be included. Reference lists should be limited to all publications in the last three years with up to five other relevant papers.

(7) Current and pending Federal support: Each investigator must submit a list that includes project title; supporting agency with grant number, investigator months, dollar value and duration. Requested amounts should be listed for pending Federal support.

(8) Additional proposal requirements include:

a. One signed original and two hard copies of the complete proposal must be submitted (submission of five additional hard copies is encouraged, to expedite the review process, but is not required);

b. Each proposal must be dated with pages numbers;

c. Items 3a through 3g above must be contained within no more than ten pages, using a 12-point font and one-inch margins.

IX. Evaluation Criteria

The JHT Steering Committee, and/or other designated reviewers, and the JHT and TPC/NHC Directors will base their recommendations regarding each preapplication and each full proposal upon the extent to which the following criteria (listed with assigned weights and in order of decreasing importance) are satisfied:

A. (25% weight) Consistency with one or more of the USWRP goals, and consistency with one or more of the priorities and needs of the TPC/NHC (especially the highest priority “TPC A-1 through A-6” items) and/or EMC, as listed in Section III of this notice (Note: proposals with exceptional promise for improving operational tropical cyclone forecasting, but that do not fall within the scope of the listed TPC/NHC or EMC needs and priorities, will still be considered.)

B. (25% weight) Potential for improving operational tropical cyclone analysis and forecast accuracy.

C. (20% weight) Promise for a successful transition to operations within one to two years, and readiness for testing and evaluation in a quasi-operational environment.

D. (15% weight) Appropriations and reasonableness of the budget with respect to available JHT funds.

E. (10% weight) Compatibility with the communications, computing, data, and display environments of TPC/NHC and/or NCEP Central Operations (NCO) (note that in cases where the technological advances of the project require cutting-edge hardware or software not yet in place at the JHT and at TPC/NHC and/or NCO, support for such enhancement from the USWRP may be considered).

F. (5% weight) Applicability to other operational forecast centers (e.g., CPHC, JTWC).

X. Selection Procedures

All full proposals will receive an independent, objective review in accordance with the criteria specified above in Section IX of this notice. Such review will be conducted by the JHT Steering Committee, and/or other designated reviewers, consisting of at least three federal and/or non-federal experts. Each member of the independent review panel will individually evaluate and rank the proposals. The reviewers will provide their rankings and recommendations to the JHT Director and TPC/NHC Director. The JHT Director and TPC/NHC Director will together decide whether to endorse each proposal based upon the rankings and recommendations from the reviewers and based upon the availability of TPC/NHC resources to support each project. The JHT Director and TPC/NHC Director will then together present their recommendations on favorably reviewed and endorsed proposals to the Directors, Office of Weather and Air Quality Research (W&AQR) of NOAA's Office of Oceanic and Atmospheric Research.

The Director of W&AQR makes the final recommendation to the NOAA Grants Officer regarding the funding of applications, taking into account the following program policy factors: (a) Availability of funding, (b) duplication with ongoing Federal support, (c) institutional diversity and (d) inter-institutional collaboration. Successful applicants are then notified. Funded projects become a JHT activity with a duration of one to two years. Note that two-year proposals are initially funded for one year, with funding for a second year contingent upon a favorable review near the end of the first year and upon available W&AQR funds. Unsuccessful applications will be notified of the final selection upon completion of the review and selection process. Copies of all submitted preapplications and proposals will be retained by the JHT staff and will become the property of the U.S. Government.

Department of Commerce Pre-Award Notification of Requirements for Grants and Cooperative Agreements

The Department of Commerce Pre-Award Notification of Requirements for Grants and Cooperative Agreements contained in the Federal Register Notice of October 1, 2001 (66 FR 49917), as amended by 67 FR 66109 (October 30, 2002), are applicable to this solicitation.

Intergovernmental Review

Applications under this program are not subject to Executive Order 12372, “Intergovernmental Review of Federal Programs.”

Services for the Deaf

The NOAA Office of Oceanic and Atmospheric Research does not have direct Telephone Device for the Deaf (TDD) capabilities, but can be reached through the State of Maryland-supplied TDD contact number, 800-735-2258, between the hours of 8 a.m. and 4:30 p.m.

Executive Order 12866

This notice has been determined to be not significant for purposes of Executive Order 12866.

Paperwork Reduction Act

This notice contains collection-of-information requirements subject to the Paperwork Reduction Act. The use of Standard Forms 424, 424A, and SF-LLL has been approved by OMB under the respective control numbers 0348-0043, 0348-0044, and 0348-0046. Notwithstanding any other provision of law, no person is required to respond to, nor shall any person by subject to a penalty for failure to comply with, a collection of information subject to the Paperwork Reduction Act, unless that collection displays a currently valid OMB control number.

Executive Order 13132

It has been determined that this notice does not contain policies with Federalism implications as that term is defined in Executive Order 13132.

Regulatory Flexibility Act

Because notice and comment are not required under 5 USC 553, or any other law, for this notice relating to public property, loans, grants benefits or contracts (5 USC 553(a)), a Regulatory Flexibility Analysis is not required and has not been prepared for this notice, 5 USC 601 et seq., pursuant to Executive Orders 13256, 12900, and 13021, the Department of Commerce, National Oceanic and Atmospheric Administration.

In accordance with Federal statutes and regulations, no person on grounds of race, color, age, sex, national origin, or disability shall be excluded from participation in, denied benefits of, or be subjected to discrimination under any program or activity receiving financial assistance.

Dated: December 30, 2002.
Louisa Koch,
Deputy Assistant Administrator, Office of Oceanic and Atmospheric Research, National Oceanic and Atmospheric Administration.

[FR Doc. 03-57 Filed 1-2-03; 8:45 am]

BILLING CODE 3510-KD-M